DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology.

Title: NIST Generic Clearance for Usability Data Collections.

OMB Control Number: 0693-0043.

Form Number(s): None.

Type of Request: Regular Submission.

Number of Respondents: 8,500.

Average Hours per Response: Varied, dependent upon the data collection method used. The possible response time to complete a questionnaire may be 15 minutes or 2 hours to participate in an empirical study.

Burden Hours: 5,000 Hours.

Needs and Uses: NIST will conduct information collections of usability data involving usage of technological devices (such as Web sites, handheld computers, cell phones, and robots.) This information will enable NIST researchers to study human-computer interactions and help establish guidelines and standards for more effective and efficient interactions.

Affected Public: Individual or households; State, Local or Tribal Government; Federal Government.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Glenna Mickelson,
Management Analyst, Office of the Chief Information Officer.

[FR Doc. 2015-29665 Filed 11-19-15; 8:45 am]

BILLING CODE 3510-P